DEPARTMENT OF DEFENSE

Office of the Secretary

[Docket ID DoD-2021-OS-0021]

Submission for OMB Review; Comment Request

AGENCY: The Office of the Under Secretary of Defense for Personnel and Readiness, Department of Defense (DoD).

ACTION: 30-Day information collection notice.

SUMMARY: The Department of Defense has submitted to OMB for clearance the following proposal for collection of information under the provisions of the Paperwork Reduction Act.

DATES: Consideration will be given to all comments received by September 8, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, or whs.mc-alex.esd.mbx.dd-dod-information-collections@mail.mil.

SUPPLEMENTARY INFORMATION:

Title; Associated Form; and OMB Number: Active Duty Spouse Survey; OMB Control Number 0704-0604.

Type of Request: Regular.

Number of Respondents: 72,700.

Responses per Respondent: 1.

Annual Responses: 72,700.

Average Burden per Response: 15 minutes.

Annual Burden Hours: 18,175 hours.

Needs and Uses: The DoD Survey of Active Duty Spouse Survey (ADSS) is the primary source for reliable and generalizable data on the effects of military life on military spouses and their families and the effectiveness of current programs and policies related to military families. The survey is designed to enhance understanding of how spouse and family resilience impact force readiness and retention and is also an indicator informing the effectiveness of programs and policies under the purview of DoD's Military Community and Family Policy (MC&FP) Department. Without this biennial survey, DoD would not have current data to guide limited resources to the appropriate programs, policies, and services related to military spouses, their families and ultimately Service members.

This survey provides an opportunity for military spouses to directly expand policy maker's knowledge by sharing opinions on issues that directly affect them. Success of current efforts and shortfalls in programs and policies are identified through this biennial survey. These survey results ensure decisions based on current and statistically reliable data.

The legislation authorizing the USD(P&R) to conduct these surveys is provided under 10 United States Code (U.S.C.), Sections 136, 1782 and 2358, and 37 U.S.C., Section 1008(b).

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: August 2, 2021.
Aaron T. Siegel,
Alternate OSD Federal Register Liaison Officer, Department of Defense.

[FR Doc. 2021-16878 Filed 8-6-21; 8:45 am]

BILLING CODE 5001-06-P